DEPARTMENT OF THE INTERIOR

National Park Service

[NPS-WASO-NAGPRA-NPS0038652; PPWOCRADN0-PCU00RP14.R50000]

Notice of Intended Repatriation: California State University, Sacramento, Sacramento, CA

AGENCY: National Park Service, Interior.

ACTION: Notice.

SUMMARY: In accordance with the Native American Graves Protection and Repatriation Act (NAGPRA), the California State University, Sacramento intends to repatriate certain cultural items that meet the definition of objects of cultural patrimony and that have a cultural affiliation with the Indian Tribes or Native Hawaiian organizations in this notice.

DATES: Repatriation of the cultural items in this notice may occur on or after October 9, 2024.

ADDRESSES: Dr. Mark R. Wheeler, Senior Advisor to President Luke Wood, California State University, Sacramento, 6000 J Street Sacramento, CA 95819, telephone (916) 460-0490, email mark.wheeler@csus.edu.

SUPPLEMENTARY INFORMATION: This notice is published as part of the National Park Service's administrative responsibilities under NAGPRA. The determinations in this notice are the sole responsibility of the California State University, Sacramento, and additional information on the determinations in this notice, including the results of consultation, can be found in the summary or related records. The National Park Service is not responsible for the determinations in this notice.

Abstract of Information Available

A total of 989 cultural items have been requested for repatriation. The 989 objects of cultural patrimony are flaked and ground stones; faunal and floral remains; modified stones, bones, and shells; unmodified stones; soil samples; and historic materials. These items were removed from CA-TEH-322, TEH-327, TEH-329, TEH-335, TEH-337, TEH-338, TEH-339, TEH-340, TEH-343, TEH-344, TEH-346, TEH-348, TEH-353, TEH-354, TEH-358, TEH-364, TEH-365, TEH-366, TEH-369, TEH-376, TEH-397, TEH-398, TEH-399, TEH-411, TEH-413, TEH-420, TEH-426, TEH-428, TEH-445, TEH-447, TEH-485, TEH-504, TEH-553, TEH-554, TEH-573, and TEH-Meeker/Hooper/Flume Creek in Tehama County, CA. The items from TEH-Meeker/Hooper/Flume Creek sites were collected during a student survey conducted from 1979 to 1982 and have since been housed at the California State University, Sacramento under accession 81-458. Items from the other Tehama County sites were collected during a survey lead by the University in the 1960s and have since been housed at California State University, Sacramento under accession numbers 81-9 and 81-359. An unknown number of objects may be missing from these collections and California State University, Sacramento continues to look for them.

Determinations

The California State University, Sacramento has determined that:

• The 989 objects of cultural patrimony described in this notice have ongoing historical, traditional, or cultural importance central to the Native American group, including any constituent sub-group (such as a band, clan, lineage, ceremonial society, or other subdivision), according to the Native American traditional knowledge of an Indian Tribe or Native Hawaiian organization.

• There is a reasonable connection between the cultural items described in this notice and the Paskenta Band of Nomlaki Indians of California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after October 9, 2024. If competing requests for repatriation are received, the California State University, Sacramento must determine the most appropriate requestor prior to repatriation. Requests for joint repatriation of the cultural items are considered a single request and not competing requests. The California State University, Sacramento is responsible for sending a copy of this notice to the Indian Tribes and Native Hawaiian organizations identified in this notice and to any other consulting parties.

Authority: Native American Graves Protection and Repatriation Act, 25 U.S.C. 3004 and the implementing regulations, 43 CFR 10.9.

Dated: August 29, 2024.
Melanie O'Brien,
Manager, National NAGPRA Program.

[FR Doc. 2024-20285 Filed 9-6-24; 8:45 am]

BILLING CODE 4312-52-P